DEPARTMENT OF ENERGY

Federal Energy Regulatory Commission

Combined Notice of Filings #2

Take notice that the Commission received the following electric rate filings:

Docket Numbers: ER15-2265-001.

Applicants: Southwest Power Pool, Inc.

Description: Compliance filing: Compliance filing Regarding Trading Hubs and Resource Hubs to be effective 9/23/2015.

Filed Date: 10/22/15.

Accession Number: 20151022-5195.

Comments Due: 5 p.m. ET 11/12/15.

Docket Numbers: ER16-126-000.

Applicants: Southwest Power Pool, Inc.

Description: Petition for Waiver of Tariff Provisions and Motion for Expedited Action and Shortened Comment Period of Southwest Power Pool, Inc.

Filed Date: 10/20/15.

Accession Number: 20151020-5261.

Comments Due: 5 p.m. ET 10/30/15.

Docket Numbers: ER16-136-000.

Applicants: PJM Interconnection, L.L.C.

Description: Tariff Cancellation: Notice of Cancellation of WMPA No. 3253, Queue No. W4-053 to be effective 10/22/2015.

Filed Date: 10/22/15.

Accession Number: 20151022-5145.

Comments Due: 5 p.m. ET 11/12/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2015.
Nathaniel J. Davis, Sr.,
Deputy Secretary.

[FR Doc. 2015-27409 Filed 10-27-15; 8:45 am]

BILLING CODE 6717-01-P